DEPARTMENT OF COMMERCE

International Trade Administration

[A-821-802]

Agreement Suspending the Antidumping Investigation on Uranium From the Russian Federation: Final Results of the 2016-2017 Administrative Review

AGENCY: Enforcement and Compliance, International Trade Administration, Department of Commerce.

SUMMARY: The Department of Commerce (Commerce) continues to find that the State Atomic Energy Corporation “ROSATOM” (ROSATOM), its affiliates Joint Stock Company “TENEX” (TENEX) and TENAM Corporation (TENAM), and TENEX's unaffiliated reseller, Centrus Energy Corp. and United States Enrichment Corporation (collectively, Centrus), are in compliance with the Agreement Suspending the Antidumping Investigation on Uranium from the Russian Federation (Agreement) during the period of review (POR) from October 1, 2016 through September 30, 2017.

DATES: Applicable June 28, 2019.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On November 14, 2018, Commerce published the Preliminary Results of this administrative review.¹ After the Preliminary Results, we received a number of submissions, including responses to supplemental questionnaires issued by Commerce prior to the Preliminary Results.² In accordance with 19 CFR 351.309(c), we invited interested parties to comment on the Preliminary Results.³ On June 11, 2019, Louisiana Energy Services LLC (LES); Centrus; and Power Resources, Inc. and Crow Butte Resources, Inc. (collectively, Cameco) submitted case briefs.⁴ On June 14, 2019, LES; ⁵ ROSATOM, TENEX, and TENAM (collectively, ROSATOM et al.); ⁶ Centrus; ⁷ Cameco; ⁸ and Exelon Generation Company, LLC and the Ad Hoc Utilities Group (collectively, AHUG) ⁹ submitted rebuttal briefs.

¹ See Agreement Suspending the Antidumping Duty Investigation on Uranium From the Russian Federation: Preliminary Results of 2016-2017 Administrative Review and Postponement of Final Results, 83 FR 56802 (November 14, 2018) (Preliminary Results).

² See Letter from ROSATOM, TENEX, and TENAM, “Uranium from the Russian Federation—Comments on Factual Information Rebutting, Clarifying, or Correcting the Response of ROSATOM to the Department's September 21, 2018 Supplemental Questionnaire,” dated November 5, 2018; Letter from TENEX, “Uranium from the Russian Federation Suspension Agreement Administrative Review: Supplemental Questionnaire Response of TENEX,” dated November 7, 2018; Letter from Exelon Generation Company, LLC and the Ad Hoc Utilities Group, “Uranium from the Russian Federation (A-821-802): Comments on Supplemental Questionnaire Response of Joint Stock Company TENEX,” dated November 16, 2018; Letter from Centrus, “Uranium from the Russian Federation: Supplemental Questionnaire Response,” dated November 16, 2018; Letter from LES, “Uranium from the Russian Federation: Factual Information Rebutting, Clarifying, and Correcting the Supplemental Questionnaire Response Submitted on November 16, 2018 by Centrus Energy Corp. and United States Enrichment Corporation,” dated December 17, 2018; Letter from TENEX, “Uranium from the Russian Federation—TENEX Factual Information to Rebut or Clarify Information Provided by LES,” dated January 3, 2019; Letter from Centrus, “Uranium from the Russian Federation: Submission of New Factual Information to Rebut, Clarify and Correct LES's December 17, 2018 Submission of New Factual Information,” dated February 12, 2019; and Letter from LES, “Uranium from the Russian Federation: Sur-Rebuttal Comments to February 12, 2019 Comments of Centrus,” dated February 26, 2019.

³ See Memorandum to Interested Parties, “Establishment of Briefing Schedule for Preliminary Results in the 2016—2017 Administrative Review of the Agreement Suspending the Antidumping Investigation on Uranium from the Russian Federation,” dated June 3, 2019.

⁴ See Centrus Case Brief, “Uranium from the Russian Federation: Case Brief” dated June 11, 2019 (Centrus Case Brief); see also Cameco Case Brief, “Uranium from the Russian Federation: Case Brief in 2016-2017 Administrative Review,” dated June 11, 2019; and LES Case Brief, “Administrative Review of the Suspension Agreement on Uranium from the Russian Federation: Case Brief of Louisiana Energy Services, LLC,” dated June 11, 2019.

⁵ See LES Rebuttal Brief, “Administrative Review of the Suspension Agreement on Uranium from the Russian Federation: Rebuttal Brief of Louisiana Energy Services, LLC,” dated June 14, 2019.

⁶ See ROSATOM et al. Rebuttal Brief, “Uranium from the Russian Federation—ROSATOM, TENEX, and TENAM Rebuttal Brief,” dated June 14, 2019.

⁷ See Centrus Rebuttal Brief, “Uranium from the Russian Federation: Rebuttal Case Brief,” dated June 14, 2019.

⁸ See Cameco Rebuttal Brief, “Uranium from the Russian Federation: Rebuttal to Case Briefs,” dated June 14, 2019.

⁹ See AHUG Rebuttal Brief, “Uranium from the Russian Federation (A-821-802): Rebuttal Brief of the Ad Hoc Utilities Group,” dated June 14, 2019.

Commerce conducted verification in Moscow, Russia, of the questionnaire and supplemental questionnaire responses of ROSATOM and TENEX during May 20-24, 2019.¹⁰ On June 6, 2019, Commerce issued its verification report.¹¹ On December 12, 2018, LES requested a hearing in the administrative review proceeding, and, on December 14, 2018, Centrus and Cameco requested a hearing as well. On June 20, 2019, Commerce held a public hearing.¹²

¹⁰ See Letter to ROSATOM and TENEX, “Agreement Suspending the Antidumping Investigation on Uranium from the Russian Federation: Verification Agenda for State Atomic Energy Corporation “ROSATOM” and Joint Stock Company “TENEX,” dated March 1, 2019; see also Memorandum to the File, “Correction to Verification Dates,” dated April 10, 2019.

¹¹ See Memorandum to the File, “Verification of the Questionnaire Responses of State Atomic Energy Corporation “ROSATOM” and Joint Stock Company “TENEX” in the Administrative Review of the Agreement Suspending the Antidumping Investigation on Uranium from the Russian Federation,” dated June 6, 2019.

¹² See Letter from Commerce to Interested Parties, dated June 17, 2019; see also Hearing Transcript, dated June 24, 2019.

Commerce exercised its discretion to toll all deadlines affected by the partial federal government closure from December 22, 2018, through the resumption of operations on January 29, 2019.¹³ If the new deadline falls on a non-business day, in accordance with Commerce's practice, the deadline will become the next business day. The revised deadline for the final results is now June 24, 2019.

¹³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of Review

The product covered by this Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive. A full description of the scope of the order is contained in the Issues and Decision Memorandum.¹⁴

¹⁴ See Memorandum to Jeffrey I. Kessler, Assistant Secretary for Enforcement and Compliance, from P. Lee Smith, Deputy Assistant Secretary for Policy & Negotiations, “Issues and Decisions Memorandum for the Final Results of the Administrative Review of the Agreement Suspending the Antidumping Duty Investigation on Uranium from the Russian Federation for the period October 1, 2016 through September 20, 2017,” dated concurrently, and hereby adopted by, this notice (Issues and Decision Memorandum).

Analysis

Commerce continues to find, based on record evidence, that ROSATOM was in compliance with the terms of the Agreement and Commerce's February 2, 2010 Statement of Administrative Intent (SAI) during the POR. Commerce has reviewed the information submitted by ROSATOM and found, in particular, no evidence of non-compliance regarding sales or exports in excess of the Agreement's export limits and no evidence of non-compliance regarding the anti-circumvention requirements in section VII of the Agreement or the reporting requirements in Appendix 3 pursuant to section VIII of the Agreement.

Commerce finds no evidence of non-compliance by TENEX, TENAM, and Centrus during the POR regarding the contract and shipment approval requirements provided for in section V of the Agreement, established by the SAI, and requested by Commerce. We have reviewed the submissions to Commerce requesting approval of contracts or contract amendments applicable to both sales and exports of Russian Uranium Products to the United States during the POR from TENEX, TENAM, and Centrus and find that each party has complied with the contract approval documentation requirements in sections V.C and V.F and Appendix 2 of the Agreement and in the SAI. We note that TENEX failed to provide to Commerce certain contract amendments that changed the material terms of contracts in effect as required by the SAI.¹⁵ However, upon discovery of this lapse, TENEX explained the circumstances under which it occurred and remedied the situation. We find that, while this oversight by TENEX is not insignificant, it does not rise to the level of a violation of the Agreement and does not imperil Commerce's ability to ensure its strict quota accounting through the contract and shipment approval requirements established in the Agreement and the SAI.¹⁶

¹⁵ See SAI at 4.

¹⁶ Id. at 1-4.

Regarding submissions to Commerce requesting approval of a shipment under an approved contract or contract amendment which entered for delivery during the POR, we have reviewed the submissions from TENEX, TENAM, and Centrus and find that each party has complied with the shipment approval documentation requirements established in the Agreement and the SAI and requested by Commerce. Lastly, regarding returned natural uranium feed and associated certification requirements, we find no issues in the submissions from TENEX, TENAM, and Centrus that rise to the level of non-compliance with Commerce's requirements regarding returned natural uranium feed, as specified in its contract and shipment approval memoranda.

Commerce is deferring analysis of whether the Agreement continues to meet the statutory requirements until the next administrative review. This deferral will allow Commerce to conduct a more extensive analysis of a larger time period which it believes is necessary to resolve the issues raised regarding price suppression or undercutting and public interest in this review.

The issues raised in the case and rebuttal briefs are addressed in the accompanying Issues and Decision Memorandum and business proprietary memorandum.¹⁷ The issues are identified in the Appendix to this notice. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://trade.gov/enforcement/frn/index.html. The signed Issues and Decision Memorandum and electronic versions of the Issues and Decision Memorandum are identical in content.

¹⁷ See Issues and Decision Memorandum; see also Memorandum to the File from Sally C. Gannon, Director for Bilateral Agreements, “Proprietary Discussion of Issues for the Final Results of the Administrative Review of the Agreement Suspending the Antidumping Duty Investigation on Uranium from the Russian Federation, for the period October 1, 2016, through September 30, 2017,” dated concurrently and hereby adopted by this notice.

We are issuing and publishing these results of review in accordance with sections 751(a)(l) and 777(i)(l) of the Act and 19 CFR 351.213 and 19 CFR 351.221(b)(5).

Dated: June 24, 2019.
Jeffrey I. Kessler,
Assistant Secretary for Enforcement and Compliance.

APPENDIX

Issues and Decision Memorandum

I. Summary

II. Scope of the Agreement

III. Background

IV. Discussion of the Issues

Issue 1: Alleged Violations of the Agreement

Issue 2: Failure to Meet the Statutory Requirements

V. Recommendation

[FR Doc. 2019-13867 Filed 6-27-19; 8:45 am]

BILLING CODE 3510-DS-P